DEPARTMENT OF LABOR

Employment and Training Administration

[TA-W-55,404]

Johnson Controls, Inc., Glasgow, KY; Notice of Termination of Investigation

Pursuant to Section 221 of the Trade Act of 1974, as amended, an investigation was initiated on August 9, 2004 in response to a worker petition filed by the company on behalf of workers at Johnson Controls, Inc., Automotive Group, Glasgow, Kentucky.

The petitioner has requested that the petition be withdrawn. Consequently, the investigation has been terminated.

Signed at Washington, DC this 31st day of August, 2004.
Linda G. Poole,
Certifying Officer, Division of Trade Adjustment Assistance.

[FR Doc. E4-2309 Filed 9-21-04; 8:45 am]

BILLING CODE 4510-30-P